DEPARTMENT OF DEFENSE

Department of the Army

Availability for Non-Exclusive, Exclusive, or Partially Exclusive Licensing of U.S. Patent Application Concerning Wearable Tissue Viability Diagnostic Unit

AGENCY: Department of the Army, DoD.

ACTION: Notice.

SUMMARY: In accordance with 37 CFR 404.6 and 404.7, announcement is made of the availability for licensing of U.S. Patent Application No. 10/882,310 entitled “Wearable Tissue Viability Diagnostic Unit,” filed July 2, 2004. Foreign rights also available (PCT/US04/021654). The United States Government, as represented by the Secretary of the Army, has rights in this invention.

ADDRESSES: Commander, U.S. Army Medical Research and Materiel Command, ATTN: Command Judge Advocate, MCMR-ZA-J, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: A device for gathering image information about a region of tissue that has been exposed to a contrast agent and methods of use thereof. The device preferably includes night vision goggles, and an excitation source that generates light of a wavelength to activate the contrast agent. The excitation source preferably is attached to the night vision goggles and is capable of directing light to a target. A filter preferably is attached to the night vision goggles, wherein the filter passes light sufficient to form an image of the region of tissue, and wherein the image may be assessed to determine the viability of the region of tissue.

Brenda S. Bowen,
Army Federal Register Liaison Officer.

[FR Doc. 06-4880 Filed 5-25-06; 8:45 am]

BILLING CODE 3710-08-M